DEPARTMENT OF TRANSPORTATION

Federal Transit Administration

Limitation on Claims Against Proposed Public Transportation Projects

AGENCY: Federal Transit Administration (FTA), DOT.

ACTION: Notice.

SUMMARY: This notice announces final environmental action taken by the Federal Transit Administration (FTA) for the Metropolitan Transportation Authority New York City Transit (MTA NYCT) Canarsie Tunnel Project Alternative Service Plan (ASP), in New York City, New York. The purpose of this notice is to announce publicly the environmental decision by FTA on the subject project and to activate the limitation on any claims that may challenge this final environmental action.

DATES: By this notice, FTA is advising the public of final agency actions subject to 23 U.S.C. 139(l). A claim seeking judicial review of FTA actions announced herein for the listed public transportation project will be barred unless the claim is filed on or before February 25, 2019.

FOR FURTHER INFORMATION CONTACT: Nancy-Ellen Zusman, Assistant Chief Counsel, Office of Chief Counsel, (312) 353-2577, or Juliet Bochicchio, Environmental Protection Specialist, Office of Environmental Programs, (202) 366-9348. FTA is located at 1200 New Jersey Avenue SE, Washington, DC 20590. Office hours are from 9:00 a.m. to 5:00 p.m., Monday through Friday, except Federal holidays.

SUPPLEMENTARY INFORMATION: Notice is hereby given that FTA has taken final agency action by issuing a certain approval for the public transportation project listed below. The action on the project, as well as the laws under which such action was taken, is described in the documentation issued in connection with the project to comply with the National Environmental Policy Act (NEPA) and in other documents in the FTA environmental file for the project. Interested parties may contact either the project sponsor or the FTA Regional Office for more information. Contact information for FTA's Regional Offices may be found at https://www.fta.dot.gov.

This notice applies to all FTA decisions on the listed project as of the issuance date of this notice and all laws under which such actions were taken, including NEPA [42 U.S.C. 4321-4375], Section 4(f) requirements [23 U.S.C. 138, 49 U.S.C. 303], Section 106 of the National Historic Preservation Act [54 U.S.C. 306108], and the Clean Air Act [42 U.S.C. 7401-7671q]. This notice does not, however, alter or extend the limitation period for challenges of project decisions subject to previous notices published in the Federal Register. The project and action that is the subject of this notice follow:

Project name and location: The Alternative Service Plan for the Canarsie Tunnel Project in New York City, New York. Project Sponsor: Metropolitan Transportation Authority New York City Transit. Project description: The project proposes to implement the Alternative Service Plan (ASP), which will provide alternative transit and mobility services to diverted L train riders during the temporary 15-month service suspension of the L train between Brooklyn and Manhattan.

The proposed ASP includes: Increased temporary alternative subway service during peak and off-peak hours; new temporary bus routes, including one across 14th Street and four over the Williamsburg Bridge between Brooklyn and Manhattan; new temporary ferry service between Williamsburg, Brooklyn and Stuyvesant Cove, Manhattan; station access and capacity improvements; additional temporary bicycle and pedestrian infrastructure; traffic management strategies, including a temporary busway on 14th Street and the temporary implementation of high-occupancy vehicles with three or more people (HOV3+) on the Williamsburg Bridge. Previously, in 2015, FTA issued a categorical exclusions (CE), for the Canarsie Tunnel Restoration and Resiliency Projects, and in 2016, FTA issued a CE for the Canarsie Tunnel Core Capacity and State of Good Repair Project. The Core Capacity and State of Good Repair Projects included full-tunnel closure and partial-tunnel closure construction options as well as a preliminary concept of MTA NYCT's alternative service plan for displaced transit riders. Because the proposed alternative service plan is considered a change to the previously approved projects, and is new information not previously reviewed pursuant to NEPA, FTA initiated a Supplemental Environmental Assessment and Section 4(f) Review on the proposed alternative service plan.

Final agency action: Finding of No Significant Impact for the Alternative Service Plan for the Canarsie Tunnel Project New York City, New York, dated September 13, 2018.

Supporting Documentation: Supplemental Environmental Assessment and Section 4(f) Review, dated July 20, 2018.

Elizabeth S. Riklin,
Deputy Associate Administrator for Planning and Environment.

[FR Doc. 2018-20916 Filed 9-25-18; 8:45 am]

BILLING CODE 4910-57-P